FEDERAL COMMUNICATIONS COMMISSION

47 CFR Part 73

[DA 00-2331; MM Docket No. 00-112; RM-9901]

Radio Broadcasting Services; Weiser, ID; Correction

AGENCY: Federal Communications Commission.

ACTION: Correcting amendments.

SUMMARY: This document contains corrections to the final regulations, which were published in the Federal Register on September 20, 2000 (65FR56799). The regulations related to the information concerning Radio Broadcasting Services in Weiser, ID. This document contains a correction to that rule.

DATES: Effective on November 1, 2000.

FOR FURTHER INFORMATION CONTACT: Leslie K. Shapiro, Mass Media Bureau, (202) 418-2180.

SUPPLEMENTARY INFORMATION: This document corrects Section 73.202(b), the Table of FM Allotment under Oregon to remove Weiser, Channel 280C1 and by adding Weiser, Channel 280C1 under Idaho. FR Doc. 00-24069, published on September 20, 2000 (65FR56799), inadvertently added Weiser, Channel 280C1 to Oregon instead of Idaho.

List of Subjects 47 CFR Part 73

Radio broadcasting.

Accordingly, 47 CFR part 73 is corrected by making the following correcting amendments:

PART 73—[RADIO BROADCAST SERVICES]

1. The authority citation for Part 73 continues to read as follows:

Authority: 47 U.S.C. 154, 303, 334 and 336.

§ 73.202 [Amended]

2. Section 73.202(b), the Table of FM Allotments under Oregon, is amended by removing Weiser, Channel 280C1.

3. Section 73.202(b), the Table of FM Allotments under Idaho, is amended by adding Weiser, Channel 280C1.

Federal Communications Commission.
John A. Karousos,
Chief, Allocations Branch, Policy and Rules Division, Mass Media Bureau.

[FR Doc. 00-27990 Filed 10-31-00; 8:45 am]

BILLING CODE 6712-01-P